DEPARTMENT OF TRANSPORTATION

Federal Aviation Administration

Approval of Noise Compatibility Program for Lambert-St. Louis International Airport, St. Louis, MO

AGENCY: Federal Aviation Administration, DOT.

ACTION: Notice.

SUMMARY: The Federal Aviation Administration (FAA) announces its findings on the noise compatibility program submitted by the St. Louis Airport Authority under the provisions of 49 U.S.C. 47501 et seq. (formerly the Aviation Safety and Noise Abatement Act, hereinafter referred to as “the Act”) and 14 Code of Federal Regulations (CFR) part 150 (hereinafter referred to as “Part 150”). On April 5, 2011, the FAA determined that the noise exposure maps submitted by the St. Louis Airport Authority under Part 150 were in compliance with applicable requirements. On August 26, 2011, the FAA approved the Lambert-St. Louis International Airport noise compatibility program. All of the recommendations of the program were approved. No program elements relating to new or revised flight procedures for noise abatement were proposed by the airport operator.

DATES: Effective Date: The effective date of the FAA's approval of the Noise Compatibility Program for Lambert-St. Louis International Airport is August 26, 2011.

FOR FURTHER INFORMATION CONTACT: FAA, Todd Madison, ACE-611B, 901 Locust, Kansas City, Missouri, 64106-2325, todd.madison@faa.gov, 816-329-2640. Documents reflecting this FAA action may be reviewed at this same location.

SUPPLEMENTARY INFORMATION: This notice announces that the FAA has given its overall approval to the Noise Compatibility Program for Lambert-St. Louis International Airport, effective August 26, 2011.

Under section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Part 150 is a local program, not a Federal program. The FAA does not substitute its judgment for that of the airport proprietor with respect to which measures should be recommended for action. The FAA's approval or disapproval of Part 150 program recommendations is measured according to the standards expressed in Part 150 and the Act and is limited to the following determinations:

a. The Noise Compatibility Program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, section 150.5. Approval is not a determination concerning the acceptability of land uses under Federal, state, or local law. Approval does not by itself constitute an FAA implementing action. A request for Federal action or approval to implement specific noise compatibility measures may be required. Prior to a FAA decision on a request to implement the action, an environmental review of the proposed action may be required. Approval does not constitute a commitment by the FAA to financially assist in the implementation of the program nor a determination that all measures covered by the program are eligible for grant-in-aid funding from the FAA under applicable law contained in Title 49 U.S.C. Where Federal funding is sought, requests for project grants must be submitted to the FAA Airports Regional Office in Kansas City, Missouri.

The Lambert-St. Louis International Airport study contains a proposed noise compatibility program comprised of actions designed for phased implementation by airport management and adjacent jurisdictions from November 29, 2010, beyond the year 2015. It was requested that the FAA evaluate and approve this material as a Noise Compatibility Program as described in section 47504 of the Act. The FAA began its review of the program on April 5, 2011, and was required by a provision of the Act to approve or disapprove the program within 180 days (other than the use of new or modified flight procedures for noise control). Failure to approve or disapprove such program within the 180-day period shall be deemed to be an approval of such program.

The submitted program contained twenty-three proposed actions for noise abatement, land use planning and program management on and off the airport. The FAA completed its review and determined that the procedural and substantive requirements of the Act and Part 150 have been satisfied. The overall program was approved by the FAA, effective August 26, 2011.

Outright approval was granted for twenty-three specific program measures. The noise compatibility program recommended ten measures for noise abatement, ten measures for land use planning policies and land use management, and three measures for oversight and implementation of the abatement and land use measures. Of the noise abatement measures, one previously approved measure was withdrawn, and nine previously approved measures will continue. Of the land use management measures, five new measures are approved, and five previously approved measures will continue. Of the program management measures, three previously approved measures will continue and were updated for the current administrative and management conditions at Lambert-St. Louis International Airport. Each measure is described in the following summary.

Noise Abatement Measure NA-1 will continue, as previously approved, the daytime use of Runway 6-24 between the hours of 6 a.m. and 11 p.m., as needed to prevent air traffic delays.

Noise Abatement Measure NA-2 approves daytime departure corridors between the hours of 6 a.m. and 11 p.m. for commercial airline and military jets.

Noise Abatement Measure NA-3 will continue, as previously approved, to prohibit nighttime full-power aircraft engine run-ups between the hours of 11 p.m. and 6 a.m. without prior authorization from the Airport Operations/Communications Center.

Noise Abatement Measure NA-4 will continue, as previously approved, to prohibit nighttime use of Runway 6-24 between the hours of 11 p.m. and 6 a.m. by commercial airline or military jet operations except under unusual or extraordinary circumstances.

Noise Abatement Measure NA-5 approves nighttime departure corridors between the hours of 11 p.m. and 6 a.m. for commercial airline and military jets.

Noise Abatement Measure NA-6 will continue, as previously approved, the use of distant noise abatement departure procedures by commercial airline jets as outlined in FAA Advisory Circular 91-53A.

Noise Abatement Measure NA-7 will continue, as previously approved, quiet push-back procedures by commercial airline jets using aircraft tractors because power backs using aircraft engines are not permitted.

Noise Abatement Measure NA-8 will continue, as previously approved, to limit commercial jet aircraft from intercepting the final approach no closer than four (4) nautical miles from the arrival runway end.

Noise Abatement Measure NA-9 will continue, as previously approved, for the St. Louis Airport Authority to notify the airlines concerning the existing practices for full power maintenance run-ups and terminal push-backs by the air carriers with scheduled service at Lambert-St. Louis International Airport, and the St. Louis Airport Authority will also encourage the use of the distant noise abatement departure procedure.

Noise Abatement Measure NA-10 approves the withdrawal of the measure to maximize west flow operations.

Land Use Management Measure LU-5 will continue, as previously approved, the voluntary use of comprehensive planning, and the St. Louis Airport Authority will assist, as appropriate, the local jurisdictions to pursue the development and adoption of comprehensive planning policies.

Land Use Management Measure LU-6 will continue, as previously approved, the voluntary discretionary review between the St. Louis Airport Authority and local jurisdictions to ensure that optimal development can occur in a manner that is compatible with the airport and aircraft operations.

Land Use Management Measure LU-7 will continue, as previously approved, the St. Louis Airport Authority to assist local jurisdictions in the development and adoption of voluntary general purpose/compatible use zoning.

Land Use Management Measure LU-8 will continue, as previously approved, the implementation of voluntary noise overlay zoning between the St. Louis Airport Authority and local jurisdictions, as appropriate.

Land Use Management Measure LU-9 will continue, as previously approved, the adoption of voluntary building codes between the St. Louis Airport Authority and local jurisdictions for noise compatibility, as appropriate.

Land Use Management Measure LU-10 will continue, as previously approved, voluntary advanced land acquisition by the St. Louis Airport Authority working cooperatively with the local jurisdictions to identify parcels zoned residential where incompatible development is being proposed.

Land Use Management Measure LU-11 approves noise disclosure for use by the St. Louis Airport Authority to cooperatively engage in a dialogue with area realtors and local jurisdictions to jointly develop a regulatory process to provide full disclosure of airport noise.

Land Use Management Measure LU-12 approves subdivision regulations to amend, as necessary, the local subdivision regulations to ensure that land is platted and developed to minimize noise impacts or reduce noise-sensitivity of new development.

Land Use Management Measurement LU-13 approves the transfer of development rights for the local jurisdictions to encourage the use of Transfer of Development Rights (TDR) where appropriate to benefit land use compatibility.

Land Use Management Measure LU-14 approves capital improvement programming for local jurisdictions to consider the compatibility between airport noise and potential development of new land uses when sizing and locating future infrastructure improvements within a capital improvements planning process in order to avoid the development of services that could lead to the development of incompatible uses.

Program Management Measure PM-1 approves the implementation of an aircraft monitoring system upgrade for the Lambert-St. Louis International Airport's aircraft monitoring system, so airport staff can obtain flight tracking data and prepare reports in response to community questions. In addition, selected permanent noise monitors should be relocated to sites that are closer to the existing 65 DNL noise exposure contour.

Program Management Measure PM-2 approves the St. Louis Airport Authority to reinitiate a community outreach program through a Community Forum.

Program Management Measure PM-3 approves the St. Louis Airport Authority to update the Noise Exposure Maps (NEMs) or prepare an update to the Noise Compatibility Program (NCP) when appropriate.

These determinations are described in detail and as set forth in the Record of Approval signed by Jim A. Johnson, Manager, Central Region Airports Division, on August 26, 2011. The Record of Approval, as well as other evaluation materials and the documents comprising the submittal, are available for review at the FAA office listed above and at the administrative offices of the St. Louis Airport Authority, Lambert-St. Louis International Airport, Airport Planning & Development, 11495 Navaid Road, Bridgeton, Missouri 63044. The Record of Approval also will be available on-line at: http://www.faa.gov/airports/environmental/airport_noise/part_150/states/.

Issued in Kansas City, Missouri, August 26, 2011.
Jim A. Johnson,
Manager, Central Region Airports Division.

[FR Doc. 2011-22607 Filed 9-2-11; 8:45 am]

BILLING CODE